DEPARTMENT OF TRANSPORTATION

ITS Industry Forum on Connected Vehicles: Moving From Research Towards Implementation; Notice of Public Meeting

AGENCY: ITS Joint Program Office, Research and Innovative Technology Administration, U.S. Department of Transportation.

ACTION: Notice.

The U.S. Department of Transportation (USDOT) Intelligent Transportation System Joint Program Office (ITS JPO) will host a free public meeting and webinar to provide updates and promote a lively discussion on the Connected Vehicle Safety, Vehicle-to-Infrastructure, and Testing programs; along with a special session discussing lessons learned in deploying ITS. The public meeting will take place September 25-27, 2012, 9:00 a.m.-4:30 p.m. at the Hyatt Regency Chicago, 151 East Wacker Drive, Chicago, Illinois, USA 60601, 312-565-1234. Persons planning to attend the meeting or participate in the webinar should register online at www.itsa.org/safetymeeting no later than August 30, 2012.

The goal of the meeting and webinar is to identify where we are and what remains in getting to the 2013 decision on Vehicle Communications for Safety, discuss what is evolving in terms of a robust Vehicle-to-Infrastructure environment, and identify what we have learned from past ITS deployments that can help with success for the future.

About the Connected Vehicle Research Program at USDOT

Connected Vehicle research at USDOT is a multimodal program that involves using wireless communication between vehicles, infrastructure, and personal communications devices to improve safety, mobility, and environmental sustainability. To learn more about the Connected Vehicle program please visit www.its.dot.gov.

If you have any questions or you need any special accommodations, please contact Adam Hopps at Ahopps@itsa.org or 202-680-0091.

Issued in Washington, DC, on the 18th day of July 2012.
John Augustine,
Managing Director, ITS Joint Program Office.

[FR Doc. 2012-17974 Filed 7-23-12; 8:45 am]

BILLING CODE 4910-HY-P